DEPARTMENT OF ENERGY

Federal Energy Regulatory Commission

[Project No. 2485-077]

FirstLight Hydro Generating Company; Northfield Mountain LLC; Notice of Comment Period Extension

February 11, 2019.

On January 8, 2019, the Commission issued a notice setting February 7, 2019, as the end of the formal period to file comments, motions to intervene, and protests on the application for transfer of license and substitution of relicense applicant for the Northfield Mountain Pumped Storage Project No. 2485. Due to the funding lapse at certain federal agencies between December 22, 2018 and January 25, 2019, the Commission is extending the comment period until February 25, 2019.

Dated: February 11, 2019.
Kimberly D. Bose,
Secretary.

[FR Doc. 2019-02702 Filed 2-19-19; 8:45 am]

BILLING CODE 6717-01-P